DEPARTMENT OF AGRICULTURE

Agriculture Marketing Service

[DOC. NO. AMS-FGIS-19-0003]

Notice of Continued Suspension of Supervision Fee Assessment Under the United States Grain Standards Act (USGSA)

AGENCY: Agricultural Marketing Service, USDA.

ACTION: Notice.

SUMMARY: The Department of Agriculture (USDA), Agricultural Marketing Service (AMS) has determined the suspension of the assessment of fees for supervision of official inspection and weighing services performed by delegated States and/or designated agencies under the United States Grain Standards Act (USGSA) will continue through December 31, 2020.

DATES: This notice is applicable beginning July 1, 2019, and remains applicable for 18 months.

FOR FURTHER INFORMATION CONTACT: Denise Ruggles, FGIS Executive Program Analyst, USDA AMS; Telephone: (816) 659-8406; Email: Denise.M.Ruggles@usda.gov.

SUPPLEMENTARY INFORMATION: The Agriculture Reauthorizations Act of 2015, Public Law 114-54, amended the USGSA (7 U.S.C. 71-87k) to require AMS to adjust fees for the supervision of official grain inspection and weighing in order to maintain an operating reserve of not less than 3 and not more than 6 months (7 U.S.C. 79(j)(4)). The Agricultural Marketing Service (AMS) published a notification of the suspension of supervision fee assessment on May 24, 2018, which became effective on July 1, 2018 (83 FR 24081). The suspension of the supervision fee assessment expires on June 30, 2019.

In order to maintain an operating reserve not less than 3 and not more than 6 months, AMS reviewed the operating reserve at the end of fiscal year 2018. The operating reserve at the end of fiscal year 2018 was $5,084,246, which continues to exceed 6 months by a significant margin. Accordingly, AMS is issuing this notice to announce the suspension of the fee for supervision of official inspection and weighing services of domestic grain and land carriers to Canada and Mexico performed by delegated States and/or designated agencies. According to the regulations under the USGSA, AMS may suspend any provision of the regulations in emergencies or other circumstances, which would not impair the objectives of the USGSA (7 CFR 800.2). AMS has determined that suspending supervision fees will not impair the objectives of the USGSA because the operating reserve for supervision services is sufficient to maintain the service without additional funds.

AMS will continue the suspension of the assessment fee of $0.011 per metric ton on domestic shipments officially inspected and/or weighed, including land carrier shipments to Canada and Mexico, performed by delegated States and/or designated agencies on or after July 1, 2019 (7 CFR 800.71 Schedule B). These fees will remain suspended for 18 months, at which time AMS will reassess the operating reserve for supervision of official agency inspection and weighing.

The realignment of offices within the U.S. Department of Agriculture authorized by the Secretary's Memorandum dated November 14, 2017, eliminates the Grain Inspection, Packers and Stockyards Administration (GIPSA) as a standalone agency. The grain inspection activities formerly part of GIPSA are now organized under AMS.

Authority: 7 U.S.C. 71-87k.

Dated: February 25, 2019.
Bruce Summers,
Administrator, Agricultural Marketing Service.

[FR Doc. 2019-03597 Filed 2-28-19; 8:45 am]

BILLING CODE 3410-02-P